GENERAL SERVICES ADMINISTRATION

[Notice-MVC-2015-01, Docket No. 2015-0054, Sequence 1]

National Dialogue and Pilot To Reduce Reporting Compliance Costs for Federal Contractors and Grantees

AGENCY: General Services Administration (GSA) and Department of Health and Human Services (HHS).

ACTION: Notice.

SUMMARY: The Chief Acquisition Officers Council, Department of Health and Human Services, and the General Services Administration (GSA) are conducting a national dialogue to discuss ideas on how to reduce the costs (compliance and other) associated with reporting compliance under Federal awards (contracts, subcontracts, grants, subgrants, and cooperative agreements). This dialogue is part of an effort to improve the economy and efficiency of the federal award system by identifying impactful steps that can be taken to streamline, reporting, reduce burden, and reduce costs.

DATES: Interested parties may participate in the national dialogue through an online platform by reviewing the information and participation dates posted at www.cao.gov. The dialogue will open on May 30, 2015 and close on May 30, 2017.

ADDRESSES: Interested parties may participate in the dialogue through the online platform by reviewing the information and participation dates posted at www.cao.gov.

FOR FURTHER INFORMATION CONTACT: Christopher Zeleznik at dataactpmo@hhs.gov or 202-205-3514 or Emily Gartland at IAEOutreach@gsa.gov or 703-605-2532.

SUPPLEMENTARY INFORMATION: This notice announces a dialogue to explore opportunities to streamline processes and reduce or eliminate burden in federal procurement and grants processes. This dialogue furthers the goals of the President's Management Agenda, which lays the foundation for creating a 21st century government that delivers better results to the American people, and addresses requirements in the Digital Accountability and Transparency Act of 2014 (Public Law 113-101) to gain a better understanding of the costs of compliance with Federal contracting and grants awards as well as recommendations to standardize data, eliminate unnecessary duplication, and reduce compliance costs.

During last year's Open Dialogue on Federal Procurement, published in the Federal Register at 79 FR 22682, on April 23, 2014, many commenters pointed to the potential reduction of redundant reporting and related processes as one way to improve the efficiency and effectiveness of the government's acquisition practices. This feedback is helping to support ongoing efforts to modernize the IT infrastructure supporting Federal procurement data collection and display, which will include development of a single Web site for Federal contractors to use for federal contract reporting requirements.

Management of federal contract and grant business arrangements requires multiple layers of reporting across multiple agencies. In some cases, lack of standardization results in slight (or significant) variations in reports that create additional administrative and burdensome requirements for awardees that could be readily rectified. This dialogue is intended to continue the conversation begun last year in the context of federal procurement and expand it to cover federal grants by identifying opportunities for reducing burden, discussing ideas for standardizing processes and forms, and identifying recommended actions to reduce costs and eliminate duplication for awardees. The open dialogue focuses on three topics (campaigns). Each campaign focuses on a unique aspect of the Federal contracting and grants process for which we welcome your insight, ideas, and feedback.

• Campaign 1—Reporting compliance requirements shared by prime and sub-awardees of Federal procurements and grants.

• Campaign 2—Procurement practices, processes, and reporting.

• Campaign 3—Grants practices and processes.

Note—We are looking for ideas to reduce your burden through data standards and changes to reporting procedures. We are interested in hearing about proposed changes that can be accomplished through executive (regulatory, administrative, or management) action, as well as potential legislative proposals where requirements are based in statute.

To facilitate a national dialogue, an online platform will be launched in May 2015 so that interested parties may submit ideas, comment on others, respond to questions posed by moderators, and vote to indicate which ideas they think are most promising and impactful. Information on the platform, and the dates for participating in the dialogue, will be posted at www.cao.gov. A separate notice will be posted to address additional dialogue topics on federal procurement for conversation later in the spring and summer.

Dated: March 27, 2015.
William Clark,
Director, Office of Government-wide Acquisition Policy, Office of Acquisition Policy, Office of Government-wide Policy.

[FR Doc. 2015-07441 Filed 3-31-15; 8:45 am]

BILLING CODE 6820-EP-P